DEPARTMENT OF COMMERCE

National Oceanic and Atmospheric Administration

RIN: 0648-XK75

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Bycatch/Limited Access Committee; its Ecosystems Committee; its Research Set-Aside Committee; its Squid, Mackerel, Butterfish Committee; its Law Enforcement Committee; and, its Executive Committee will hold public meetings.

DATES: The meetings will be held on Tuesday, October 14, 2008 through Thursday, October 16, 2008. See SUPPLEMENTARY INFORMATION for specific dates and times.

ADDRESSES: The meetings will be held at the Ramada Plaza & Resort, 1701 South Virginia Dare Trail, Kill Devil Hills, NC 27948; telephone: (252) 441-2151.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION:

Tuesday, October 14, 2008

9 a.m. until 11 a.m. - The Bycatch/Limited Access Committee will meet.

11 a.m. until 12 p.m. - The Ecosystems Committee will meet.

1 p.m. until 3 p.m. - The Research Set-Aside Committee will meet.

3 p.m. until 5 p.m. - The Squid, Mackerel, and Butterfish Committee will meet.

Wednesday, October 15,2008

9 a.m. until 9:30 a.m. - The Law Enforcement Committee will meet.

9:30 a.m. - The Council will convene.

9:30 a.m. until 9:45 a.m. - Swearing in of new and reappointed members will be held.

9:45 a.m. until 10:30 a.m. - Groundfish Assessment Review Meeting (GARM) Report will be provided to the Council by NMFS Officials.

10:30 a.m. until 11 a.m. - Meeting 2 of Framework 2 to the Spiny Dogfish Fishery Management Plan (FMP) will be discussed.

11 a.m. until 12 p.m. - A presentation will be given to the Council regarding Amendments 3 and 4 to the Consolidated Highly Migratory Species (HMS) FMP by NMFS Officials.

1 p.m. until 2:30 p.m. - The Council will hold its regular Business Session.

2:30 p.m. until 3:30 p.m. - An official from NMFS will provide the Council a presentation regarding the Proposed Rule for use of Turtle Excluded Devices (TED) in all Atlantic coast trawl fisheries.

3:30 p.m. until 5 p.m. - The Executive Committee will meet.

7 p.m. until 9 p.m. - There will be a scoping meeting to address Amendment 3 to the NMFS' Consolidated Highly Migratory Species Fishery Management Plan.

Thursday, October 16, 2008

9 a.m. until 11 a.m. - The Council will convene to approve Amendment 10 to the Squid, Mackerel, and Butterfish FMP for Secretarial Submission.

11 a.m. until 12 p.m. - The Council will then consider any Continuing and New Business.

Agenda items by day for the Council's Committees and the Council itself are:

Tuesday, October 14 - The Bycatch/Limited Access Committee will continue discussion regarding prioritization and resolution of bycatch issues, i.e. - bycatch notebook and approve the final version of the Council's bycatch pamphlet for catch and release practices. The Ecosystems Committee will consider expanding the current charge and role of the Committee. The Research Set-Aside Committee will establish research set-aside priorities for 2010 and consider developing a standardized rating and ranking system for grant applications from a management and/or policy perspective. The Squid, Mackerel, and Butterfish Committee will review comments received regarding Amendment 11's recent Notice of Intent (NOI) including: implementation of Annual Catch Limits (ACL) and Accountability Measures (AM); updated Essential Fish Habitat (EFH) descriptions for all four species; and, consider possible limitations on at-sea processing of mackerel.

Wednesday, October 15 - The Law Enforcement Committee will review the Fisheries Achievement Award (FAA) nominations and develop recommendations regarding possible recipient(s) for this recognition. The Council will convene to swear in new and reappointed Council members and elect Council Officers. The Council will receive a report on the recent GARM Assessment. The Council will select and adopt the preferred alternative to adjust stock status determination criteria (biological reference points) for the Spiny Dogfish FMP. A presentation will be given by Karyl Brewster-Geisz on Amendment 3 (small coastal shark issues) and Amendment 4 (Caribbean issues) to the NMFS' Consolidated HMS FMP. The Council will then conduct its Business Session and receive Organizational, Liaison, Executive Director, Status of Fishery Management Plans and Committee reports. A presentation will also be provided by a NMFS Protected Resources official regarding NMFS' Proposed Rule for use of Turtle Excluder Devices (TED) in all Atlantic coast trawl fisheries. The Executive Committee will review the 2009 Annual Work Plan (AWP); review nominees and select recipients for the 2008 Ricks E Savage Award; and, address logistics and mechanics of using the Scientific and Statistical Committee (SSC) to provide advice to the Council.

Thursday, October 16 - The Council will convene to review and adopt modified alternative 1A to implement butterfish rebuilding through use a bycatch cap. The Council will then consider any continuing or new business.

Although non-emergency issues not contained in this agenda may come before the Council for discussion, these issues may not be the subject of formal Council action during these meetings. Council action will be restricted to those issues specifically listed in this notice and any issues arising after publication of this notice that require emergency action under Section 305(c) of the Magnuson-Stevens Act, provided the public has been notified of the Council's intent to take final actions to address such emergencies.

Special Accommodations

These meetings are physically accessible to people with disabilities. Requests for sign language interpretation or other auxiliary aid should be directed to M. Jan Bryan, (302) 674-2331 ext 18, at least 5 days prior to the meeting date.

Dated: September 24, 2008.
Tracey L. Thompson,
Acting Director, Office of Sustainable Fisheries, National Marine Fisheries Service.

[FR Doc. E8-22816 Filed 9-29-08; 8:45 am]

BILLING CODE 3510-22-S